DEPARTMENT OF COMMERCE

National Oceanic and Atmospheric Administration

[RTID 0648-XA674]

Meeting of the Marine Fisheries Advisory Committee

AGENCY: National Marine Fisheries Service (NMFS), National Oceanic and Atmospheric Administration (NOAA), Commerce.

ACTION: Notice of open public meeting.

SUMMARY: This notice sets forth the proposed schedule and agenda of a forthcoming meeting of the Marine Fisheries Advisory Committee (MAFAC). The members will discuss and consider priorities and recommendations for the next four years and other organizational matters.

DATES: The meeting will be December 15, from 1-3 p.m., Eastern Time.

ADDRESSES: Meeting is by webinar and teleconference.

FOR FURTHER INFORMATION CONTACT: Heidi Lovett; NOAA Fisheries Office of Policy; (301) 427-8034; email: Heidi.Lovett@noaa.gov.

SUPPLEMENTARY INFORMATION: Notice is hereby given of a meeting of MAFAC. The MAFAC was established by the Secretary of Commerce (Secretary), and, since 1971, advises the Secretary on all living marine resource matters that are the responsibility of the Department of Commerce. The MAFAC charter and summaries of prior MAFAC meetings are located online at https://www.fisheries.noaa.gov/national/partners/marine-fisheries-advisory-committee-charter.

Matters To Be Considered

This meeting time and agenda are subject to change. The meeting is convened to discuss and consider priorities and recommendations to consider for the next four years, hear updates on current activities on seafood and aquaculture, and may also discuss future work for its subcommittees and other organizational matters.

Time and Date

The meeting is scheduled for December 15, 2020 from 1-3 p.m., Eastern Time by webinar and conference call. Access information for the public will be posted at https://www.fisheries.noaa.gov/national/partners/marine-fisheries-advisory-committee-meeting-materials-and-summaries by December 8, 2020.

Dated: November 20, 2020.
Jennifer L. Lukens,
Federal Program Officer, Marine Fisheries Advisory Committee, National Marine Fisheries Service.

[FR Doc. 2020-26124 Filed 11-24-20; 8:45 am]

BILLING CODE 3510-22-P